DEPARTMENT OF COMMERCE

National Oceanic and Atmospheric Administration

[RTID 0648-XA682]

Schedules for Atlantic Shark Identification Workshops and Protected Species Safe Handling, Release, and Identification Workshops

AGENCY: National Marine Fisheries Service (NMFS), National Oceanic and Atmospheric Administration (NOAA), Commerce.

ACTION: Notice of public workshops; correction.

SUMMARY: NMFS announces that the date for the Atlantic Shark Identification workshop originally scheduled for November 12, 2020, in Largo, FL, has been changed. The new date is January 7, 2021. The workshop time and location remain unchanged: 12 p.m. to 4 p.m. on January 7, 2021, in Largo, FL. Atlantic Shark Identification workshops are mandatory for Atlantic shark dealers. Additional free workshops will be conducted during 2021.

DATES: The date for the Atlantic Shark Identification workshop originally scheduled for Largo, FL, on November 12, 2020, is changed to January 7, 2021. See SUPPLEMENTARY INFORMATION for further details.

ADDRESSES: The address of the Atlantic Shark Identification workshop to be held in Largo, FL, remains unchanged. See SUPPLEMENTARY INFORMATION for further details.

FOR FURTHER INFORMATION CONTACT: Rick Pearson by phone: (727) 824-5399, or by email at rick.a.pearson@noaa.gov.

SUPPLEMENTARY INFORMATION: The workshop schedules, registration information, and a list of frequently asked questions regarding the Atlantic Shark Identification workshops are posted online at: https://www.fisheries.noaa.gov/atlantic-highly-migratory-species/atlantic-shark-identification-workshops.

Correction

In the Federal Register of August 24, 2020, in FR Doc. 2020-18520, on page 52094, in the third column, correct the date of the second Atlantic Shark Identification workshop listed under the heading “Workshop Dates, Times, and Locations” to read:

“2. January 7, 2021, 12 p.m.-4 p.m., Hampton Inn, 100 East Bay Drive, Largo, FL 33770.”

Authority: 16 U.S.C. 1801 et seq.

Dated: December 9, 2020.
Jennifer M. Wallace,
Acting Director, Office of Sustainable Fisheries, National Marine Fisheries Service.

[FR Doc. 2020-27501 Filed 12-14-20; 8:45 am]

BILLING CODE 3510-22-P